ENVIRONMENTAL PROTECTION AGENCY

[EPA-HQ-OPP-2016-0104; FRL-9955-54]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period October 1, 2015 to September 30, 2016 to control unforeseen pest outbreaks.

FOR FURTHER INFORMATION CONTACT: Michael L. Goodis, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the emergency exemption.

B. How can I get copies of this document and other related information?

The docket for this action, identified by docket identification (ID) number EPA-HQ-OPP-2016-0104, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

EPA has granted emergency exemptions to the following State and Federal agencies. The emergency exemptions may take the following form: Crisis, public health, quarantine, or specific.

Under FIFRA section 18 (7 U.S.C. 136p), EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized and the pests, the crop or use for which authorized, and the duration of the exemption.

III. Emergency Exemptions

A. U. S. States and Territories

Alabama

Department of Agriculture and Industries

Specific exemptions: EPA authorized the use of sulfoxaflor on cotton to control tarnished plant bug; June 7 to October 31, 2016.

EPA authorized the use of sulfoxaflor on sorghum to control sugarcane aphids; May 5, 2016 to April 8, 2017.

Arizona

Department of Agriculture

Specific exemption: EPA authorized the use of sulfoxaflor on sorghum to control sugarcane aphids; September 22, 2016 to April 8, 2017.

Arkansas

State Plant Board

Crisis exemption: On July 21, 2016, the Arkansas State Plant Board declared a crisis exemption to allow use of flupyradifurone on sweet sorghum to control sugarcane aphids. The use was expected to be needed beyond the 15 days allowed under a crisis exemption and a specific exemption request was also submitted.

Specific exemptions: EPA authorized the use of sulfoxaflor on cotton to control tarnished plant bug; June 7 to October 31, 2016.

EPA authorized the use of sulfoxaflor on sorghum to control sugarcane aphids; May 5, 2016 to April 8, 2017.

California

Department of Pesticide Regulation

Crisis exemptions: On August 19, 2016, the California Department of Pesticide Regulation declared a crisis exemption to allow use of bifenthrin on pomegranate to control leaffooted plant bug. The use was expected to be needed beyond the 15 days allowed under a crisis exemption and a specific exemption request was also submitted.

On June 30, 2016, the California Department of Pesticide Regulation declared a crisis exemption to allow use of methoxyfenozide in rice to control armyworms. The use was expected to be needed beyond the 15 days allowed under a crisis exemption and a specific exemption request was also submitted.

Specific exemption: EPA authorized the use of bifenthrin on avocado to control polyphagous shot hole borer; April 8, 2016 to April 8, 2017.

Colorado

Department of Agriculture

Specific exemption: EPA authorized the use of sulfoxaflor on sorghum to control sugarcane aphids; July 11, 2016 to April 8, 2017.

Delaware

Department of Agriculture

Specific exemptions: EPA authorized the use of dinotefuran on pome and stone fruits to control the brown marmorated stinkbug; June 16 to October 15, 2016.

EPA authorized the use of bifenthrin on apple, peach, and nectarine to control the brown marmorated stinkbug; May 31 to October 15, 2016.

Florida

Department of Agriculture and Consumer Services

Crisis exemptions: On March 4, 2016, the Florida Department of Agriculture and Consumer Services declared crisis exemptions to allow use of the antibiotics, oxytetracycline and streptomycin in citrus to help suppress and manage Huanglongbing (HLB) disease (also known as citrus greening). The uses were expected to be needed beyond the 15 days allowed under a crisis exemption and specific exemption requests were also submitted.

Specific exemptions: EPA authorized the use of the antibiotics, oxytetracycline and streptomycin in citrus to help suppress and manage Huanglongbing (HLB) disease (also known as citrus greening). August 15 to December 31, 2016.

EPA authorized the use of tolfenpyrad on fruiting vegetables crop group 8-10 to control various thrips; February 29, 2016 to February 28, 2017.

EPA authorized the use of clothianidin on immature (3 to 5 years old) citrus trees to manage transmission of Huanglongbing (HLB) disease vectored by the Asian citrus psyllid; January 15 to October 31, 2016.

Quarantine exemption: EPA authorized the use of naled in a bait formulation to eradicate invasive (non-native) Tephritid fruit fly species statewide in Florida, where detected; June 24, 2016 to June 24, 2017.

Georgia

Department of Agriculture

Specific exemptions: EPA authorized the use of sulfoxaflor on sorghum to control sugarcane aphids; May 5, 2016 to April 8, 2017.

EPA authorized the use of fluridone in cotton to control Palmer amaranth; December 18, 2015 to August 31, 2016.

Idaho

Department of Agriculture

Specific exemption: EPA authorized the use of hexythiazox on sugarbeet to control spider mites; April 19 to September 30, 2016.

Illinois

Department of Agriculture

Specific exemption: EPA authorized the use of sulfoxaflor on sorghum to control sugarcane aphids; July 19, 2016 to April 8, 2017.

Kansas

Department of Agriculture

Specific exemption: EPA authorized the use of sulfoxaflor on sorghum to control sugarcane aphids; May 5, 2016 to April 8, 2017.

Kentucky

Department of Agriculture

Crisis exemption: On July 21, 2016, the Arkansas State Plant Board declared a crisis exemption to allow use of flupyradifurone on sweet sorghum to control sugarcane aphids. The use was expected to be needed longer than the 15 days allowed under a crisis exemption and a specific exemption request was also submitted.

Specific exemption: EPA authorized the use of sulfoxaflor on sorghum to control sugarcane aphids; July 19, 2016 to April 8, 2017.

Louisiana

Department of Agriculture and Forestry

Crisis exemption: On June 21, 2016, the Louisiana Department of Agriculture and Forestry declared a crisis exemption to allow use of acetamiprid in sugarcane to control the West Indian canefly. The use was expected to be needed longer than the 15 days allowed under a crisis exemption, and a specific exemption request was also submitted.

Specific exemptions: EPA authorized the use of sulfoxaflor on cotton to control tarnished plant bug; June 7 to October 31, 2016.

EPA authorized the use of sulfoxaflor on sorghum to control sugarcane aphids; May 5, 2016 to April 8, 2017.

Quarantine exemption: EPA authorized the use of fipronil as an expansion of the registered use, to control an invasive crazy ant species (commonly referred to as the tawny crazy ant) around the outside of manmade structures in counties where the ant has been confirmed; April 1 2016 to April 1, 2019.

Maryland

Department of Agriculture

Specific exemptions: EPA authorized the use of dinotefuran on pome and stone fruits to control the brown marmorated stinkbug; June 16 to October 15, 2016.

EPA authorized the use of bifenthrin on apple, peach, and nectarine to control the brown marmorated stinkbug; May 31 to October 15, 2016.

Michigan

Department of Agriculture

Crisis exemption: On July 21 2016, the Michigan Department of Agriculture authorized a crisis exemption to allow use of fluopicolide on hops to control downy mildew. A previously withdrawn specific exemption request was resubmitted since use was needed until October 1, 2016, beyond the 15 days allowed under a crisis exemption.

Specific exemption: EPA authorized the use of fluensulfone on carrots to control plant-parasitic nematodes; April 20 to June 15, 2016.

Mississippi

Department of Agriculture and Commerce

Crisis exemption: On July 21, 2016, the Mississippi Department of Agriculture and Commerce declared a crisis exemption to allow use of flupyradifurone on sweet sorghum to control sugarcane aphids. The use was expected to be needed beyond the 15 days allowed under a crisis exemption and a specific exemption request was also submitted.

Specific exemptions: EPA authorized the use of sulfoxaflor on cotton to control tarnished plant bug; June 7 to October 31, 2016.

EPA authorized the use of sulfoxaflor on sorghum to control sugarcane aphids; May 5, 2016 to April 8, 2017.

Quarantine exemption: EPA authorized the use of fipronil as an expansion of the registered use, to control an invasive crazy ant species (commonly referred to as the tawny crazy ant) around the outside of manmade structures in counties where the ant has been confirmed; April 1 2016 to April 1, 2019.

Missouri

Department of Agriculture

Specific exemptions: EPA authorized the use of sulfoxaflor on cotton to control tarnished plant bug; June 7 to October 31, 2016.

EPA authorized the use of sulfoxaflor on sorghum to control sugarcane aphids; May 11, 2016 to April 8, 2017.

Nebraska

Department of Agriculture

Specific exemption: EPA authorized the use of sulfoxaflor on sorghum to control sugarcane aphids; June 2, 2016 to April 8, 2017.

Nevada

Department of Agriculture

Specific exemption: EPA authorized the use of chlorantraniliprole on teff to control armyworm; July 18, 2016 to July 18, 2017.

New Jersey

Department of Environmental Protection

Specific Exemption: EPA authorized the use of dinotefuran on pome and stone fruits to control the brown marmorated stinkbug; August 17 to October 15, 2016.

New Mexico

Department of Agriculture

Specific exemption: EPA authorized the use of sulfoxaflor on sorghum to control sugarcane aphids; June 28, 2016 to April 8, 2017.

New York

Department of Environmental Conservation

Specific exemptions: EPA authorized the uses of bifenthrin on apple, peach, and nectarine to control the brown marmorated stinkbug; July 12 to October 15, 2016.

North Carolina

Department of Agriculture and Consumer Services

Crisis exemption: On July 21, 2016, the North Carolina Department of Agriculture and Consumer Services declared a crisis exemption to allow use of flupyradifurone on sweet sorghum to control sugarcane aphids. The use was expected to be needed beyond the 15 days allowed under a crisis exemption and a specific exemption request was also submitted.

On January 11, 2016, the North Carolina Department of Agriculture declared a crisis exemption for the postharvest use of thiabendazole on sweet potatoes to control black rot disease. The use was expected to be needed until December 31, 2016 and a request for a specific exemption was also submitted.

Specific exemptions: EPA authorized the use of thiabendazole on sweet potatoes to control black rot disease; July 18 to December 31, 2016.

EPA authorized the uses of bifenthrin on apple, peach, and nectarine to control the brown marmorated stinkbug; July 12 to October 15, 2016.

EPA authorized the use of dinotefuran on pome and stone fruits to control the brown marmorated stinkbug; June 16 to October 15, 2016.

EPA authorized the use of sulfoxaflor on sorghum to control sugarcane aphids; May 5, 2016 to April 8, 2017.

Oklahoma

Department of Agriculture

Specific exemption: EPA authorized the use of sulfoxaflor on sorghum to control sugarcane aphids; May 5, 2016 to April 8, 2017.

Oregon

Department of Agriculture

Specific exemption: EPA authorized the use of hexythiazox on sugarbeet to control spider mites; April 19 to September 30, 2016.

Pennsylvania

Department of Agriculture

Specific exemptions: EPA authorized the use of dinotefuran on pome and stone fruits to control the brown marmorated stinkbug; June 16 to October 15, 2016.

EPA authorized the use of bifenthrin on apple, peach, and nectarine to control the brown marmorated stinkbug; May 31 to October 15, 2016.

EPA authorized the use of thiabendazole on mushroom to control Trichoderma green mold; March 11, 2016 to March 11, 2017.

South Carolina

Department of Pesticide Regulation

Specific exemption: EPA authorized the use of sulfoxaflor on sorghum to control sugarcane aphids; May 25, 2016 to April 8, 2017.

Tennessee

Department of Agriculture

Crisis exemption: On July 21, 2016, the Tennessee Department of Agriculture declared a crisis exemption to allow use of flupyradifurone on sweet sorghum to control sugarcane aphids. The use was expected to be needed beyond the 15 days allowed under a crisis exemption and a specific exemption request was also submitted.

Specific exemptions: EPA authorized the use of sulfoxaflor on cotton to control tarnished plant bug; June 7 to October 31, 2016.

EPA authorized the use of sulfoxaflor on sorghum to control sugarcane aphids; May 5, 2016 to April 8, 2017.

Texas

Department of Agriculture

Specific exemption: EPA authorized the use of sulfoxaflor on sorghum to control sugarcane aphids; April 8, 2016 to April 8, 2017.

Quarantine exemption: EPA authorized the use of fipronil as an expansion of the registered use, to control an invasive crazy ant species (commonly referred to as the tawny crazy ant) around the outside of manmade structures in counties where the ant has been confirmed; April 1, 2016 to April 1, 2019.

Virginia

Department of Agriculture and Consumer Services

Specific exemptions: EPA authorized the use of dinotefuran on pome and stone fruits to control the brown marmorated stinkbug; June 16 to October 15, 2016.

EPA authorized the use of bifenthrin on apple, peach, and nectarine to control the brown marmorated stinkbug; May 31 to October 15, 2016.

EPA authorized the use of sulfoxaflor on sorghum to control sugarcane aphids; May 16, 2016 to April 8, 2017.

Washington

Department of Agriculture

Crisis exemptions: On the August 26, 2016, the Washington Department of Agriculture declared a crisis exemption for use of lambda-cyhalothrin on asparagus to control the European asparagus aphid. The use season was expected to last until October 31, 2016, and a specific exemption request was also submitted.

On May 19, 2016, the Washington Department of Agriculture declared a crisis exemption for use of isofetamid on blackberry, blueberry, and raspberry to control Botrytis cinerea (gray mold). The use was expected to be needed beyond the 15 days allowed under a crisis exemption and a specific exemption request was also submitted.

Specific exemptions: EPA authorized the use of lambda-cyhalothrin on asparagus to control the European asparagus aphid; September 19 to October 31, 2016.

EPA authorized the use of isofetamid on blackberry, blueberry, and raspberry to control Botrytis cinerea (gray mold); July 27 to October 30, 2016.

West Virginia

Department of Agriculture

Specific exemptions: EPA authorized the use of dinotefuran on pome and stone fruits to control the brown marmorated stinkbug; June 16 to October 15, 2016.

EPA authorized the use of bifenthrin on apple, peach, and nectarine to control the brown marmorated stinkbug; May 31 to October 15, 2016.

B. Federal Departments and Agencies

Agriculture Department

Animal and Plant Health Inspector Service

Quarantine exemptions: EPA authorized the use of citric acid to treat for disinfection of porous and nonporous surfaces contaminated with Foot-and-Mouth Disease Virus, African Swine Fever Virus, Low Pathogenic Avian Influenza Virus, and high Pathogenic Avian Flu Influenza Virus; February 4, 2016 to February 4, 2019.

EPA authorized the use of a mixture of potassium peroxymonosulfate and propylene glycol for disinfection of nonporous surfaces associated with poultry facilities infected with highly pathogenic avian influenza virus; January 20, 2016 to January 20, 2019.

Centers for Disease Control and Prevention

Public health exemptions: EPA authorized use of deltamethrin to help control Aedes species of mosquitoes, vectors of the zika virus, in Puerto Rico where the zika virus is being locally transmitted, and Aedes mosquito populations have developed resistance to other materials commonly used for mosquito control. EPA authorized three different uses of deltamethrin as follows: Pre-treated mosquito bed nets, May 10, 2016 to May 10, 2017; pre-treated window curtain coverings, May 18, 2016 to May 18, 2017; a tablet form used to prepare a solution for treatment of mosquito bed nets and curtains, May 19, 2016 to May 19, 2017.

EPA authorized use of pyriproxyfen (a larvicide) and Beauveria bassiana (a fungus pathogenic to adult insects) to help control Aedes species of mosquitoes, vectors of the zika virus. Deployment is in a container “trap” designed to attract the egg-laying adult mosquito, and was initially targeted for Puerto Rico, where the zika virus was being locally transmitted. While in the trap depositing eggs, the adult mosquito is coated with the pesticide mixture, and then visits other egg-laying sites, distributing pyriproxyfen in the process. The pyriproxyfen kills the larva by preventing development into an adult, while the Beauvaria bassiana slowly kills the adult mosquito over 8-10 days. Use is allowed in other areas of the U.S. if zika-transmitting mosquitoes are detected. May 6, 2016 to May 6, 2017.

Department of Defense

Armed Forces Pest Management Board

Specific exemption. EPA authorized use of permethrin for treatment of unoccupied military aircraft to comply with disinsection requirements of Italy and other counties, to prevent dissemination of potential insect disease vectors such as the Aedes mosquito, vector of the zika virus. July 13, 2016 to July 13, 2017.

National Aeronautics and Space Administration

Specific exemption. EPA authorized use of ortho-phthalaldehyde, immobilized to a porous resin, to treat the International Space Station (ISS) internal active thermal control system (IATCS) coolant for control of aerobic and microaerophilic water bacteria and unidentified gram negative rods. August 31, 2016 to August 31, 2017.

Authority: 7 U.S.C. 136 et seq.

Dated: November 30, 2016,
Michael Goodis,
Acting Director, Registration Division, Office of Pesticide Programs.

[FR Doc. 2016-30175 Filed 12-14-16; 8:45 am]

BILLING CODE 6560-50-P